OFFICE OF THE DIRECTOR OF NATIONAL INTELLIGENCE

Privacy Act of 1974; System of Records

AGENCY: Office of the Director of National Intelligence.

ACTION: Notice of a new system of records.

SUMMARY: ODNI provides notice that it is establishing a new Privacy Act system of records identified as ODNI-23, “Workforce Health and Safety Records.” ODNI proposed to add a new system of records to its inventory of records systems subject to the Privacy Act of 1974, as amended. This action is necessary to meet the requirements of the Privacy Act to publish in the Federal Register the existence and character of records maintained by the agency. This new system of records is titled, “Workforce Health and Safety Records.”

DATES: This new System of Records will go into effect on December 7, 2022, unless comments are received that result in a contrary determination. Routine uses applicable to ODNI-23, “Workforce Health and Safety Records,” will go into effect 30 days after date of publication.

ADDRESSES: You many submit comments by any of the following methods: Email: transparency@dni.gov. Mail: Director, Information Management Office, Chief Operating Officer, ODNI, Washington, DC 20511.

SUPPLEMENTARY INFORMATION: Pursuant to the Privacy Act, 5 U.S.C. 552a, the ODNI is establishing a new system ofrecords, ODNI-23, “Workforce Health and Safety Records.” The ODNI is committed to providing all ODNI personnel and visitors to and occupants of ODNI spaces or facilities with a safe and healthy environment. When necessary, the ODNI may develop and institute additional safety measures to protect its workforce and those individuals entering ODNI facilities. The ODNI will collect and maintain information in accordance with the Rehabilitation Act of 1973 and regulations and guidance published by the U.S. Occupational Safety and Health Administration, the U.S. Equal Employment Opportunity Commission, and the U.S. Centers for Disease Control and Prevention.

SYSTEM NAME AND NUMBER:

Workforce Health and Safety Records (ODNI-23).

SECURITY CLASSIFICATION:

The classification of records in this system ranges from UNCLASSIFIED to TOP SECRET.

SYSTEM LOCATION:

Office of the Director of National Intelligence, Washington, DC 20511.

SYSTEM MANAGER(S):

Chief Operating Officer (COO), ODNI, Washington, DC 20511.

AUTHORITY FOR MAINTENANCE OF THE SYSTEM:

The National Security Act of 1947, as amended, 50 U.S.C. 3002-3231; Federal workforce safety requirements, including the Occupational Safety and Health Act of 1970; Executive Order 12196, “Occupational Safety and Health Programs for Federal Employees;” 29 U.S.C. 668; 5 U.S.C. 7902; Americans with Disabilities Act of 1990, as amended; the Rehabilitation Act of 1973, as amended; Federal laws related to a specific public health emergency or public health threats, including, Executive Order 13991, “Protecting the Federal Workforce and Requiring Mask-Wearing,” Executive Order 13994, “Ensuring a Data-Driven Response to COVID-19 and Future High-Consequence Public Health Threats,” Executive Order 14042, “Ensuring Adequate COVID Safety Protocols for Federal Contractors,” and Executive Order 14043, “Requiring Coronavirus Disease 2019 Vaccination for Federal Employees;” 22 U.S.C. 2680b; National Defense Authorization Act for FY 2022, Public Law 117-81, Sec. 6603.

PURPOSE(S) OF THE SYSTEM:

ODNI may use the information collected (1) to facilitate the provision and enforcement of health safety protocols to ODNI workforce personnel and visitors to and occupants of ODNI spaces and facilities; (2) to inform individuals who may have been in proximity of a disease, illness, or other public health threat; (3) to identify the medical status of individuals to prevent such disease or illness from spreading; (4) to facilitate the provision of a reasonable accommodation or lawful exception to a public health safety requirement; (5) to facilitate reporting or tracking of medical testing results or screening results related to a public health or safety threat; (6) to determine and report the aggregate number of individuals compliant with a public health or safety requirement or the number of staff that received a legal exception and accommodation to a requirement; and (7) to properly process associated business, security, or human resources requirements, to include investigation into the facts and circumstances regarding exposure to a disease, illness, or other public health threat, reimbursement of approved expenses, claims for workers' compensation or other medical care or treatment, authorized administrative leave, new hires, and enforcement or disciplinary actions.

CATEGORIES OF INDIVIDUALS COVERED BY THE SYSTEM:

Current and former ODNI personnel and family members, including cadre employees, staff reserve, Highly Qualified Experts, military, detailees, Intergovernmental Personnel Act detailees, appointees, and interns; applicants for ODNI employment; visitors and assignees to and occupants of ODNI spaces and facilities; and contractors providing support to ODNI or inside ODNI spaces and facilities.

CATEGORIES OF RECORDS IN THE SYSTEM:

Records maintained in this system may include full name; agency identification number (AIN); biographical and contact information; worksite and job information; supervisor's name and contact information; date(s) and circumstances of the individual's suspected or actual exposure to disease, illness, or public health threat, which may include medical symptoms, attire, location, and exposure information where the individual may have contracted, been exposed to, or spread the disease, illness or public health threat; information directly related to an individual's potential disease, injury, or illness, e.g., vaccination status, testing results/information, previous medical symptoms, diagnoses, treatments, source of exposure and study participation; vaccination records, including the date, type, and dose of vaccine administered and any boosters; information relevant to a request for a reasonable accommodation or exception to public health safety requirements, e.g., medical or religious exception for vaccination; records relating to compliance with health safety protocols or policies; information relating to health safety and disease mitigation measures, including contact tracing, temperature screening, quarantines, and other symptom screening questionnaires or records; business records, which may include receipts or insurance explanation of benefits, required for reimbursement of authorized expenses; human resource data associated with authorized administrative leave, workers' compensation claims, new hires, and enforcement or disciplinary process.

RECORD SOURCE CATEGORIES:

Records may be obtained from individuals; personnel at medical facilities when written permission is granted by the individual; individuals with direct or indirect knowledge about participation in public health safety requirements; individuals responsible for implementing or enforcing health safety protocols, associated human resources processes, to include hiring and disciplinary, mitigation measures, or other health safety requirements; security systems monitoring access to ODNI facilities, such as video surveillance, turnstiles, and access logs; ODNI internal systems; and property management companies responsible for managing ODNI facilities.

ROUTINE USES OF RECORDS MAINTAINED IN THE SYSTEM, INCLUDING CATEGORIES OF USERS AND PURPOSES OF SUCH USES:

In addition to the disclosures permitted under subsection (b) of the Privacy Act, ODNI may disclose information contained in this system of records if the disclosure is compatible with the purpose for which the record was collected pursuant to the “Routine Uses Applicable to More Than One ODNI Privacy Act System of Records,” Subpart C of ODNI's Privacy Act Regulation published at 32 CFR part 1701 (73 FR 16531, 16541) and incorporated by reference (see also http://www.dni.gov). ODNI may also disclose information contained in this system ofrecords if the disclosure is compatible with the purpose for which the record was collected under the following additional routine use:

(i) A record from the Workforce Health and Safety Records system of records maintained by ODNI may be disclosed as a routine use to an individual's employer to provide information about the individual's health status, safety practices, or compliance with health and safety protocols when disclosure is necessary to maintain the safety and security of USG facilities.

POLICIES AND PRACTICES FOR STORAGE OF RECORDS:

Electronic records are stored in secure file-servers on secure private cloud-based systems that are connected only to a government network.

POLICIES AND PRACTICES FOR RETRIEVAL OF RECORDS:

The records in this system are retrieved by name or other unique identifier.

POLICIES AND PRACTICES FOR RETENTION AND DISPOSAL OF RECORDS:

Pursuant to 44 U.S.C. 3303a(d) and 36 CFR Chapter 12, Subchapter B-Records Management, these records are covered by the National Archives and Records Administration (NARA) General Records Schedule (ORS) 2.7, Workforce Health and Safety Records. All records will be retained and disposed of according to the applicable NARA ORS provisions.

ADMINISTRATIVE, TECHNICAL, AND PHYSICAL SAFEGUARDS:

Information in this system is safeguarded in accordance with recommended and/or prescribed administrative, physical, and technical safeguards. Records are maintained in secure government-managed facilities with access limited to authorized personnel. Physical security protections include guards and locked facilities requiring badges and passwords for access. Records are accessed only by current government-authorized personnel whose official duties require access to the records. Electronic authorization and authentication of users is required at all points before any system information can be accessed. Safeguards are in place to monitor and audit access. System backup is maintained separately.

RECORD ACCESS PROCEDURES:

As specified below, records in this system have been exempted from certain notification, access, and amendment procedures. A request for access shall be made in writing with the envelope and letter clearly marked “Privacy Act Request.” Requesters shall provide their full name and complete address. The requester must sign the request and have it verified by a notary public. Alternately, the request may be submitted under 28 U.S.C. 1746, ertifying the requester's identity and understanding that obtaining a record under false pretenses constitutes a criminal offense. Requests for access to information must be addressed to the Director, Information Management Office, Chief Operating Officer, Office of the Director of National Intelligence, Washington, DC 20511. Regulations governing access to one's records or for appealing an initial determination concerning access to records are contained in the ODNI regulation implementing the Privacy Act, 32 CFR part 1701 (73 FR 16531).

CONTESTING RECORD PROCEDURES:

As specified below, records in this system are exempt from certain notification, access, and amendment procedures. Individuals seeking to correct or amend non-exempt records should address their requests to ODNI at the address and according to the requirements set forth above under the heading “Record Access Procedures.” Regulations governing access to and amendment of one's records or for appealing an initial determination concerning access or amendment of records are contained in the ODNI regulation implementing the Privacy Act, 32 CFR part 1701 (73 FR 16531).

NOTIFICATION PROCEDURES:

As specified below, records in this system are exempt from certain notification, access, and amendment procedures. Individuals seeking to learn whether this system contains non-exempt information about them should address inquiries to ODNI at the address and according to the requirements set forth above under the heading “Record Access Procedures.”

EXEMPTIONS PROMULGATED FOR THE SYSTEM:

The Privacy Act authorizes ODNI to exempt records contained in this system of records from the requirements of subsections (c)(3), (d), (e)(l), (e)(4)(G), (H), (I), and (f) of the Privacy Act pursuant to 5 U.S.C. 552a(k)(l) and (k)(5).

HISTORY:

None.

In accordance with 5 U.S.C. 552a(r), ODNI has provided a report of this revision to the Office of Management and Budget and to Congress.

Dated: November 30, 2022.
Gregory M. Koch,
Director, Information Management Office, Chief Operating Officer, Office of the Director of National Intelligence.

[FR Doc. 2022-26593 Filed 12-6-22; 8:45 am]

BILLING CODE 9500-01-P